ENVIRONMENTAL PROTECTION AGENCY

40 CFR Part 180

[EPA-HQ-OPP-2023-0502; FRL-11773-01-OCSPP]

Pesticide Tolerances; Implementing Registration Review Decisions for Certain Pesticides; Terbacil, et al.

AGENCY: Environmental Protection Agency (EPA).

ACTION: Proposed rule.

SUMMARY: The Environmental Protection Agency (EPA or the Agency) is proposing to implement several tolerance actions under the Federal Food, Drug, and Cosmetic Act (FFDCA) that the Agency determined were necessary or appropriate during the registration review conducted under the Federal Insecticide, Fungicide, and Rodenticide Act (FIFRA). During registration review, EPA reviews all aspects of a pesticide case, including existing tolerances, to ensure that the pesticide continues to meet the standard for registration under FIFRA. The tolerance actions and pesticide active ingredients addressed in this rulemaking are identified in Unit I.B. and discussed in detail in Unit III. of this document.

DATES: Comments must be received on or before September 20, 2024.

ADDRESSES: Submit your comments, identified by docket identification (ID) number EPA-HQ-OPP-2023-0502, through the Federal eRulemaking Portal at: https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Atha, Pesticide Re-Evaluation Division (7508M), Office of Pesticide Programs, Environmental Protection Agency, 1200 Pennsylvania Ave. NW, Washington, DC 20460-0001; telephone number: (202) 566-1933; email address: atha.katherine@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What action is the Agency taking?

EPA is proposing several tolerance actions that the Agency previously determined were necessary or appropriate during registration review for the following pesticide active ingredients: terbacil, bromacil, metolachlor and S-metolachlor, etridiazole, triclopyr, deltamethrin, cyfluthrin and isomer beta-cyfluthrin, cyproconazole, fluroxypyr, pyraflufen-ethyl, etoxazole, acequinocyl, pinoxaden, flonicamid, and d-phenothrin. The proposed tolerance actions for each pesticide active ingredient are described in Unit III and may include but are not limited to the following types of actions:

• Revising tolerance expressions;

• Modifying commodity definitions;

• Updating crop groups;

• Removing expired tolerances;

• Revoking tolerances that are no longer needed; and

• Harmonizing tolerances with Codex Maximum Residue Levels (MRLs).

Although they may not have been identified in the registration review of a particular pesticide, this rule also includes proposals to reflect the Agency's 2019 adoption of the Organization of Economic Cooperation and Development (OECD) Rounding Class Practice. Where applicable, these adjustments are proposed for specific pesticides as reflected in the proposed regulatory text section.

C. What is the Agency's authority for taking this action?

Pursuant to its authority under the Federal Food, Drug and Cosmetic Act (FFDCA), 21 U.S.C. 346a, EPA is proposing the tolerance actions in this rulemaking that the Agency previously determined were necessary or appropriate during the registration review conducted under the Federal Insecticide, Fungicide, and Rodenticide Act (FIFRA), 7 U.S.C. 136 et seq.

FFDCA section 408(b) authorizes EPA to establish a tolerance, if the Agency determines that a tolerance is safe; FFDCA section 408(c) authorizes EPA to establish an exemption from the requirement of a tolerance if the Agency determines that the exemption is safe. See 21 U.S.C. 346a(b) and (c). If EPA determines that a tolerance or exemption is not safe, EPA must modify or revoke that tolerance or exemption. The FFDCA defines “safe” to mean that “there is a reasonable certainty that no harm will result from aggregate exposure to the pesticide chemical residue, including all anticipated dietary exposures and all other exposures for which there is reliable information.” 21 U.S.C. 346a(b)(2)(A)(ii), (c)(2)(A)(ii). This includes exposure through drinking water and in residential settings but does not include occupational exposure. FFDCA section 408(b)(2)(C) requires EPA to give special consideration to the exposure of infants and children to the pesticide chemical residue in establishing a tolerance and to “ensure that there is a reasonable certainty that no harm will result to infants and children from aggregate exposure to the pesticide chemical residue[s.]” 21 U.S.C. 346a(b)(2)(C). In addition, FFDCA section 408(b)(2)(D) contains several factors EPA must consider when making determinations about establishing, modifying, or revoking tolerances. 21 U.S.C. 346a(b)(2)(D). FFDCA section 408(c)(2)(B) requires that EPA, when making determinations about exemptions, to take into account, among other things, the considerations set forth in FFDCA section 408(b)(2)(C) and (D). 21 U.S.C. 346a(c)(2)(B).

FFDCA section 408(e), 21 U.S.C. 346a(e), authorizes EPA to establish, modify, or revoke tolerances or exemptions from the requirement of a tolerance on its own initiative. Prior to issuing the final regulation, FFDCA section 408(e)(2) requires EPA to issue a notice of proposed rulemaking for a 60-day public comment period, unless the Administrator for good cause finds that it would be in the public interest to have a shorter period and states the reasons in the rulemaking.

Furthermore, when establishing tolerances or exemptions from the requirement of a tolerance, FFDCA sections 408(b)(3) and (c)(3) require that there be a practical method for detecting and measuring pesticide chemical residue levels in or on food, unless in the case of exemptions, EPA determines that such method is not needed and states the reasons therefore in the rulemaking. 21 U.S.C. 346a(b) and (c).

Under FIFRA section 3(g), 7 U.S.C. 136a(g), EPA is required to periodically review all registered pesticides and determine if those pesticides continue to meet the standard for registration under FIFRA. See also 40 CFR 155.40(a). Consistent with its obligations under FIFRA section 3(g) and FFDCA section 408, EPA has reviewed the available scientific data and other relevant information and determined it is appropriate to take the tolerance actions being proposed in this rulemaking.

D. What can I do if I want the Agency to maintain a tolerance that the Agency proposes to revoke?

This proposed rule provides a 60-day public comment period that allows any person to state an interest in retaining a tolerance proposed for revocation. If EPA receives such a comment within the 60-day period, EPA will not proceed to revoke the tolerance immediately. However, EPA will take steps to ensure the submission of any needed supporting data and will issue an order in the Federal Register under FFDCA section 408(f), if needed. The order would specify data needed and the timeframes for submission of the data and would require that within 90 days some person or persons notify EPA that they will submit the data. If the data are not submitted as required in the order, EPA will take appropriate action under FFDCA.

After considering comments that are received in response to this proposed rule, EPA will issue a final rule. At the time of the final rule, you may file an objection or request a hearing on the action taken in the final rule. If you fail to file an objection to the final rule within the time period specified in the final rule, you will have waived the right to raise any issues resolved in the final rule. After the filing deadline specified in the final rule, issues resolved in the final rule cannot be raised again in any subsequent proceedings.

E. What should I consider as I prepare my comments for EPA?

1. Submitting CBI

Do not submit this information to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for Preparing Your Comments

When preparing and submitting your comments, see the commenting tips at https://www.epa.gov/dockets/commenting-epa-dockets#tips.

3. Environmental Justice

EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. Background

A. What is a tolerance?

A “tolerance” represents the maximum level for residues of pesticide chemicals legally allowed in or on food, which includes raw agricultural commodities and processed foods and feed for animals. Under the FFDCA, residues of a pesticide chemical that are not covered by a tolerance or exemption from the requirement of a tolerance are considered unsafe. See 21 U.S.C. 346a(a)(1). Foods containing unsafe residues are deemed adulterated and may not be distributed in interstate commerce. See 21 U.S.C. 331(a), 342(a)(2)(B). Consequently, for a food-use pesticide (i.e., a pesticide use that is likely to result in residues in or on food) to be sold and distributed, the pesticide must not only have appropriate tolerances or exemptions under the FFDCA, but also must be registered under FIFRA, 7 U.S.C. 136 et seq. Food-use pesticides not registered in the United States must have tolerances or exemptions in order for commodities treated with those pesticides to be imported into the United States. For additional information about tolerances, go to https://www.epa.gov/pesticide-tolerances/about-pesticide-tolerances.

B. Why does EPA consider international residue limits?

When establishing a tolerance for residues of a pesticide, EPA must determine whether the Codex Alimentarius Commission (Codex) has established a Maximum Residue Limit (MRL) for that pesticide. See 21 U.S.C. 346a(b)(4). As part of registration review, EPA determines whether international tolerances or MRLs exist for commodities and chemicals for which U.S. tolerances have been established. Where appropriate, EPA's intention is to harmonize U.S. tolerances with those international MRLs to facilitate trade. EPA's effort to harmonize with Codex MRLs is summarized in the tolerance reassessment section of the individual human health risk assessments that support the pesticide registration review.

C. What is pesticide registration review?

EPA periodically reviews existing registered pesticides to ensure they can continue to be used without unreasonable adverse effects on human health or the environment. The registration review program is intended to make sure that, as the ability to assess risk evolves and as policies and practices change, all registered pesticides continue to meet the FIFRA registration standard of no unreasonable adverse effects. As part of the registration review of a pesticide, EPA also evaluates whether existing tolerances are safe, whether any changes to existing tolerances are necessary or appropriate, and whether any new tolerances are necessary to cover residues from registered pesticides. Where appropriate, EPA has included a safety finding under the FFDCA for the proposed tolerance action for the pesticide, which is discussed in detail in the human health risk assessments conducted to support the registration review of each specific pesticide active ingredient or registration review case. In addition, these proposed tolerance changes are summarized in the Proposed Interim Decision (PID), Proposed Final Decision (PFD), Interim Decision (ID) and Final Decision (FD) for each pesticide active ingredient or registration review case. These documents can be found in the public docket that has been opened for each pesticide, which is available online at https://www.regulations.gov, using the docket ID number listed in Unit III. for each pesticide active ingredient included in this proposed action. Additional information about pesticide registration review is available at https://www.epa.gov/pesticide-reevaluation.

III. Proposed Tolerance Actions

EPA is proposing to take the specific tolerance actions identified in this unit.

A. 40 CFR 180.209; Terbacil, Case 0039 (Docket ID No. EPA-HQ-OPP-2011-0054)

1. Proposed Changes to the Current Tolerances

EPA is proposing to amend the current tolerance by:

• Revising the current tolerance expression to describe more clearly the scope or coverage of the tolerances and the method for measuring compliance. Consistent with EPA policy, the revised tolerance expression will clarify that: (1) As provided in FFDCA section 408(a)(3), the tolerance covers metabolites and degradates of terbacil not specifically mentioned; and (2) Compliance with the specified tolerance levels is to be determined by measuring the specific compounds mentioned in the tolerance expression. The revisions to the tolerance expression do not substantively change the tolerance or, in any way, modify the permissible level of residues permitted by the tolerances.

• Revising the commodity definitions in paragraph (a) from “Peppermint, tops” to “Peppermint, fresh leaves,” and from “Spearmint, tops” to “Spearmint, fresh leaves” and modifying the tolerance levels to reflect OECD's rounding class practices. These revisions of commodity definitions will help facilitate efficient commodity searches and does not substantively change the tolerance or, in any way, modify the permissible level of residues in or on the commodity listed in the regulation.

• Modifying tolerance values in order to reflect OECD's rounding class practices.

2. Safety Finding

During registration review, EPA assessed the risks from exposure to terbacil, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to terbacil residues. Thus, EPA has determined that the tolerances for residues of terbacil are safe. Adequate enforcement methodology as described in the supporting documents is available to enforce the tolerance expression. For further detail, see Terbacil: Human Health Draft Risk Assessment for Registration Review, which can be found in the docket ID number listed in the heading of this unit.

B. 40 CFR 180.210; Bromacil; Case 0041 (Docket ID No. EPA-HQ-OPP-2012-0445)

1. Proposed Changes to the Current Tolerances

EPA is proposing to amend the current tolerances by:

• Revising the current tolerance expression to describe more clearly the scope or coverage of the tolerances and the method for measuring compliance. Consistent with EPA policy, the revised tolerance expression will clarify that: (1) As provided in FFDCA section 408(a)(3), the tolerance covers metabolites and degradates of bromacil not specifically mentioned; and (2) Compliance with the specified tolerance levels is to be determined by measuring the specific compounds mentioned in the tolerance expression. The revisions to the tolerance expression do not substantively change the tolerance or, in any way, modify the permissible level of residues permitted by the tolerances. Adequate enforcement methodology as described in the supporting documents is available to enforce the tolerance expression.

• Revising the commodity definition in paragraph (a) from “Fruit, citrus” to “Fruit, citrus, group 10-10.” This revision will help facilitate efficient commodity searches and does not substantively change the tolerance or, in any way, modify the permissible level of residues in or on the commodity listed in the regulation.

2. Safety Finding

During registration review, EPA assessed the risks from exposure to bromacil, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to bromacil residues. Thus, EPA has determined that the tolerances for residues of bromacil are safe. Adequate enforcement methodology as described in the supporting documents is available to enforce the tolerance expression. For further detail, see Bromacil and its Lithium Salt—Draft Human Health Risk Assessment for Registration Review, which can be found in the docket ID number listed in in the heading of this unit.

C. 40 CFR 180.368; Metolachlor and S-Metolachlor; Case 0001 (Docket ID No. EPA-HQ-OPP-2014-0772)

1. Proposed Changes to the Current Tolerances

EPA is proposing to amend the current tolerances by:

• Revising the commodity definitions in paragraphs (a)(1) and (2) from “Beet, sugar, tops” to “Beet, sugar, leaves”; from “Cilantro, leaves” to “Cilantro, fresh leaves”; from “Low growing berry subgroup 13-07G, except cranberry” to “Berry, low growing, subgroup 13-07G, except cranberry”; from “Grass, forage” to “Grass, forage, fodder and hay, group 17, forage”; from “Grass, hay” to “Grass, forage, fodder and hay, group 17, hay”; and from “Vegetable, Brassica, head and stem, group 5-16” to “Vegetable, brassica, head and stem, group 5-16.” These revisions will help facilitate efficient commodity searches and does not substantively change the tolerance or, in any way, modify the permissible level of residues in or on the commodity listed in the regulation.

• Modifying tolerance values in order to reflect OECD's rounding class practices.

• Adding the chemical name “S-metolachlor” to the title in 40 CFR 180.368 to more accurately reflect the chemical covered by the tolerances in that section.

2. Safety Finding

During registration review, EPA assessed the risks from exposure to metolachlor and S-metolachlor, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to metolachlor and S-metolachlor residues. Thus, EPA has determined that the tolerances for residues of metolachlor and S-metolachlor are safe. Adequate enforcement methodology as described in the supporting documents is available to enforce the tolerance expression. For further details, see Metolachlor and S-Metolachlor: Draft Human Health Risk Assessment for Registration Review, which can be found in the docket ID number listed in in the heading of this unit.

D. 40 CFR 180.370; Etridiazole; Case 0009 (Docket ID No. EPA-HQ-OPP-2014-0414)

1. Proposed Changes to the Current Tolerances

EPA is proposing to amend the current tolerances by:

• Revising the current tolerance expression to describe more clearly the scope or coverage of the tolerances and the method for measuring compliance. Consistent with EPA policy, the revised tolerance expression will clarify that: (1) As provided in FFDCA section 408(a)(3), the tolerance covers metabolites and degradates of etridiazole not specifically mentioned; and (2) Compliance with the specified tolerance levels is to be determined by measuring the specific compounds mentioned in the tolerance expression. The revisions to the tolerance expression do not substantively change the tolerance or, in any way, modify the permissible level of residues permitted by the tolerances.

• Modifying the tolerance level for etridiazole on tomatoes due to new data submitted by the registrant that shows no measurable residues. The currently available field trial data indicate that residues are below the limit of quantitation (LOQ) of the study method (<0.035 ppm); however, the U.S. tolerance enforcement method for etridiazole has a combined LOQ of 0.1 ppm. Therefore, EPA is proposing to revise the tolerance for tomatoes from 0.15 ppm to 0.1 ppm, because the Agency is not able to set a tolerance level that is below the LOQ.

• Revising the chemical name in the title in 40 CFR 180.370 to “Etridiazole” to more accurately reflect the chemical covered by the tolerances in that section.

2. Safety Finding

During registration review, EPA assessed the risks from exposure to etridiazole, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to etridiazole residues. Thus, EPA has determined that the tolerances for residues of etridiazole are safe. Adequate enforcement methodology as described in the supporting documents is available to enforce the tolerance expression. For further details, see Etridiazole. Revised Draft Human Health Risk Assessment (DRA) in Support of Registration Review, which can be found in the docket ID number listed in in the heading of this unit.

E. 40 CFR 180.417; Triclopyr; Case 2710 (Docket ID No. EPA-HQ-OPP-2014-0576)

1. Proposed Changes to the Current Tolerances

EPA is proposing to amend the current tolerances by:

• Revising the commodity definitions from “Fish” to “Fish, freshwater, finfish”; from “Shellfish” to “Fish, shellfish, mollusc” and “Fish, shellfish, crustacean”; from “Grass, forage” to “Grass, forage, fodder and hay, group 17, forage”; and from “Grass, hay” to “Grass, forage, fodder and hay, group 17, hay” and modifying the tolerance levels to reflect OECD's rounding class practices. These commodity definition revisions will help facilitate efficient commodity searches and does not substantively change the tolerance or, in any way, modify the permissible level of residues in or on the commodity listed in the regulation.

• Establishing a new paragraph (a)(3) under paragraph (a) for the fish and shellfish commodities in (a)(1) and revising the current tolerance expression to describe more clearly the scope or coverage of the tolerances and the method for measuring compliance. Consistent with EPA policy, the revised tolerance expression will clarify (1) that, as provided in FFDCA section 408(a)(3), the tolerance covers metabolites and degradates of triclopyr not specifically mentioned; and (2) that compliance with the specified tolerance levels is to be determined by measuring the specific compounds mentioned in the tolerance expression. The revisions to the tolerance expression do not substantively change the tolerance or, in any way, modify the permissible level of residues permitted by the tolerances.

• Modifying tolerance values in order to reflect OECD's rounding class practices.

2. Safety Finding

During registration review, EPA assessed the risks from exposure to triclopyr, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to triclopyr residues. Thus, EPA has determined that the tolerances for residues of triclopyr are safe. Adequate enforcement methodology as described in the supporting documents is available to enforce the tolerance expression. For further details, see Triclopyr, Triclopyr Butoxyethyl Ester, and Triclopyr Salts. Human Health Draft Risk Assessment to Support Registration Review, which can be found in the docket ID number listed in in the heading of this unit, and Triclopyr. Human Health Risk Assessment for Section 3 Use on Sugarcane, which can be found at docket EPA-HQ-OPP-2022-0890.

F. 40 CFR 180.435; Deltamethrin; Case 7414 (Docket ID No. EPA-HQ-OPP-2009-0637)

1. Proposed Changes to the Current Tolerances

EPA is proposing to amend the current tolerances by:

• Modifying tolerances for “Grain, cereal, group 15, except sweet corn” from 1.0 ppm to 2 ppm, and “Tomato” from 0.2 ppm to 0.3 ppm to harmonize with Codex MRLs.

2. Safety Finding

During registration review, EPA assessed the risks from exposure to deltamethrin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to deltamethrin residues. Thus, EPA has determined that the tolerances for residues of deltamethrin are safe. Adequate enforcement methodology as described in the supporting documents is available to enforce the tolerance expression. For further detail, see Deltamethrin. Draft Human Health Risk Assessment for Registration Review and Deltamethrin Interim Registration Review Decision, which can be found in the docket ID number listed in in the heading of this unit.

G. 40 CFR 180.436; Cyfluthrin and Isomer Beta-Cyfluthrin; Case 7405 (Docket ID No. EPA-HQ-OPP-2010-0684)

1. Proposed Changes to the Current Tolerances

EPA is proposing to amend the current tolerances by:

• Revising the tolerance expressions for cyfluthrin and isomer beta-cyfluthrin to describe more clearly the scope or coverage of the tolerances and the method for measuring compliance and consolidating the tolerance expression for residues of cyfluthrin resulting from application in food and feed handling establishments into one section. Consistent with EPA policy, the revised tolerance expressions will clarify that: (1) As provided in FFDCA section 408(a)(3), the tolerance covers metabolites and degradates of cyfluthrin and beta-cyfluthrin not specifically mentioned; and (2) Compliance with the specified tolerance levels is to be determined by measuring the specific compounds mentioned in the tolerance expression. The revisions to the tolerance expression do not substantively change the tolerance or, in any way, modify the permissible level of residues permitted by the tolerances.

• Converting existing crop group tolerances for residues of cyfluthrin and beta-cyfluthrin to the updated crop groups “Brassica, leafy greens, subgroup 4-16B”; “Fruit, citrus, group 10-10”; “Fruit, pome, group 11-10”; “Fruit, stone, group 12-12”; “Leaf petiole vegetable subgroup 22B”; “Leafy greens subgroup 4-16A”; “Nut, tree, group 14-12”; “Vegetable, brassica, head and stem, group 5-16”; “Vegetable, fruiting, group 8-10” at the same levels and is proposing to establish tolerances for the commodities “Celtuce” and “Fennel, florence, fresh leaves and stalk” at 6 ppm and “Kohlrabi” at 2.5 ppm. These conversions would modify existing tolerances for commodities in those crop groups and establish new tolerances for commodities in the updated crop groups. Upon establishment of these new crop groups, EPA proposes to remove tolerances that will be unnecessary once they are superseded by the tolerances established for the new crop group, including the tolerances for “Lettuce, head”; “Lettuce, leaf”; “Mustard greens”; “Pepper”; “Pistachio”; “Tomato”; and “Turnip, greens.” 40 CFR 180.40(j) states that “At appropriate times, EPA will amend tolerances for crop groups that have been superseded by revised crop groups to conform the pre-existing crop group to the revised crop group.” EPA has indicated in updates to its crop group rulemakings that registration review is one of those appropriate times.

• Modifying tolerances in order to reflect OECD's rounding class practices.

• Modifying the tolerance for “Hog, meat byproducts” from 0.01 ppm to 0.02 ppm and for “Fruit, citrus, group 10-10” from 0.2 ppm to 0.3 ppm to harmonize with Codex MRLs.

2. Safety Finding

During registration review, EPA assessed the risks from exposure to cyfluthrin and beta-cyfluthrin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to cyfluthrin and beta-cyfluthrin residues. Thus, EPA has determined that the tolerances for residues of cyfluthrin and beta-cyfluthrin are safe. Adequate enforcement methodology as described in the supporting documents is available to enforce the tolerance expression. For further detail, see Cyfluthrin and Beta-Cyfluthrin. Draft Human Health Risk Assessment for Registration Review, which can be found in the docket ID number listed in in the heading of this unit.

H. 40 CFR 180.485; Cyproconazole; Case 7011 (Docket ID No. EPA-HQ-OPP-2015-0462)

1. Proposed Changes to the Current Tolerances

EPA is proposing to amend the current tolerances by:

• Revising the commodity definitions for “Coffee bean, green (Imported)” to “Coffee, green bean”; “Cattle, meat byproducts (except liver)” to “Cattle, meat byproducts, except liver”; “Goat, meat byproducts (except liver)” to “Goat, meat byproducts, except liver”; “Aspirated grain fractions” to “Grain, aspirated fractions”; “Horse, meat byproducts (except liver)” to “Horse, meat byproducts, except liver”; “Sheep, meat byproducts (except liver)” to “Sheep, meat byproducts, except liver”; and “Wheat, grain, milled byproducts” to “Wheat, milled byproducts” to describe more clearly the scope or coverage of the tolerances and the method for measuring compliance. The revisions to the tolerance commodity definition do not substantively change the tolerance or, in any way, modify the permissible level of residues permitted by the tolerances.

• Modifying tolerances in order to reflect OECD's rounding class practices.

• Modifying the tolerance for “Wheat, grain” from 0.05 ppm to 0.08 ppm to harmonize with Codex MRLs. The tolerances for livestock commodities are not able to be harmonized with Codex because the U.S. residue definition contains additional metabolites.

2. Safety Finding

During registration review, EPA assessed the risks from exposure to cyproconazole, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to cyproconazole residues. Thus, EPA has determined that the tolerances for residues of cyproconazole are safe. Adequate enforcement methodology as described in the supporting documents is available to enforce the tolerance expression. For further details, see Cyproconazole: Draft Human Health Risk Assessment for Registration Review, which can be found in the docket ID number listed in in the heading of this unit.

I. 40 CFR 180.535; Fluroxypyr; Case 7248 (Docket ID No. EPA-HQ-OPP-2014-0570)

1. Proposed Changes to the Current Tolerances

EPA is proposing to amend the current tolerances by:

• Revising the current tolerance expression to describe more clearly the scope or coverage of the tolerances and the method for measuring compliance. Consistent with EPA policy, the revised tolerance expression will clarify that: (1) As provided in FFDCA section 408(a)(3), the tolerance covers metabolites and degradates of fluroxypyr not specifically mentioned; and (2) Compliance with the specified tolerance levels is to be determined by measuring the specific compounds mentioned in the tolerance expression. The revisions to the tolerance expression do not substantively change the tolerance or, in any way, modify the permissible level of residues permitted by the tolerances. Adequate enforcement methodology as described in the supporting documents is available to enforce the tolerance expression.

• Revising the commodity definitions for “Grass, forage” to “Grass, forage, fodder and hay, group 17, forage”; and “Grass, hay” to “Grass, forage, fodder and hay, group 17, hay.” These revisions will help facilitate efficient commodity searches and does not substantively change the tolerance or, in any way, modify the permissible level of residues in or on the commodity listed in the regulation.

• Modifying tolerances in order to reflect OECD's rounding class practices.

• Removing the tolerance for “Barley, hay” at 12.0 ppm since it is already covered by a tolerance listed at 20 ppm for that commodity and adding a tolerance for “Barley, forage” at 12 ppm that was erroneously removed.

2. Safety Finding

During registration review, EPA assessed the risks from exposure to fluroxypyr, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to fluroxypyr residues. Thus, EPA has determined that the tolerances for residues of fluroxypyr are safe. Adequate enforcement methodology as described in the supporting documents is available to enforce the tolerance expression. For further detail, see Fluroxypyr: Draft Human Health Risk Assessment for Registration Review, which can be found in the docket ID number listed in in the heading of this unit.

J. 40 CFR 180.585; Pyraflufen-ethyl; Case 7259 (Docket ID No. EPA-HQ-OPP-2014-0415)

1. Proposed Changes to the Current Tolerances

EPA is proposing to amend the current tolerances by:

• Redesignating paragraph (a) as (a)(1) and establishing a new paragraph (a)(2) under paragraph (a) for livestock commodities and revise the current tolerance expression for pyraflufen-ethyl for livestock and plant commodities to describe more clearly the scope or coverage of the tolerances and the method for measuring compliance. Consistent with EPA policy, the revised tolerance expression will clarify that: (1) As provided in FFDCA section 408(a)(3), the tolerance covers metabolites and degradates of pyraflufen-ethyl not specifically mentioned; and (2) Compliance with the specified tolerance levels is to be determined by measuring the specific compounds mentioned in the tolerance expression. The revisions to the tolerance expression do not substantively change the tolerance or, in any way, modify the permissible level of residues permitted by the tolerances.

• Revising the commodity definitions for “Grass, forage, group 17” at 1.0 ppm and “Grass, hay, group 17” at 1.4 ppm by combining to the updated commodity “Grass, forage, fodder and hay, group 17” at 1.5 ppm to describe more clearly the scope or coverage of the tolerances and the method for measuring compliance. Upon establishment of the tolerance for this commodity, EPA also proposes to remove tolerances for “Grass, forage, group 17” and “Grass, hay, group 17” since they will be unnecessary once they are superseded by the tolerance established for the new commodity.

• Modifying tolerances to reflect current OECD rounding practices.

2. Safety Finding

During registration review, EPA assessed the risks from exposure to pyraflufen-ethyl, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to pyraflufen-ethyl residues. Thus, EPA has determined that the tolerances for residues of pyraflufen-ethyl are safe. Adequate enforcement methodology as described in the supporting documents is available to enforce the tolerance expression. For further details, see Pyraflufen-ethyl—Human Health Draft Risk Assessment for Registration Review, which can be found in the docket ID number listed in in the heading of this unit.

K. 40 CFR 180.593; Etoxazole; Case 7616 (Docket ID No. EPA-HQ-OPP-2014-0133)

1. Proposed Changes to the Current Tolerances

EPA is proposing to amend the current tolerances by:

• Revising the commodity definitions for “Peppermint, tops” to “Peppermint, fresh leaves.” and for “Spearmint, tops” to “Spearmint, fresh leaves.” These revisions will help facilitate efficient commodity searches and does not substantively change the tolerance or, in any way, modify the permissible level of residues in or on the commodity listed in the regulation.

• Modifying tolerances for “Almond, hulls” from 2.0 ppm to 3 ppm, “Peppermint, fresh leaves” from 10 ppm to 15 ppm, and “Spearmint, fresh leaves” from 10 ppm to 15 ppm to harmonize with Codex MRLs. The tolerances for individual citrus fruits and tree nuts are already harmonized with Codex MRLs, and the tolerances for pome fruits and hops, dried cones are not able to be harmonized with Codex because the tolerance levels are higher than the Codex MRLs.

• Modifying tolerances to reflect OECD's rounding class practices.

2. Safety Finding

During registration review, EPA assessed the risks from exposure to etoxazole, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to etoxazole residues. Thus, EPA has determined that the tolerances for residues of etoxazole are safe. Adequate enforcement methodology as described in the supporting documents is available to enforce the tolerance expression. For further details, see Etoxazole: Human Health Draft Risk Assessment for Registration Review and a Proposed Section 3 Use on Sugar Beets, which can be found in the docket ID number listed in in the heading of this unit.

L. 40 CFR 180.599; Acequinocyl; Case 7621 (Docket ID No. EPA-HQ-OPP-2015-0203)

1. Proposed Changes to the Current Tolerances

EPA is proposing to amend the current tolerances by:

Revising the commodity definition from “Citrus, oil” to “Fruit, citrus, group 10-10, oil.” This revision will help facilitate efficient commodity searches and does not substantively change the tolerance or, in any way, modify the permissible level of residues in or on the commodity listed in the regulation.

• Modifying tolerances to reflect OECD's rounding class practices.

2. Safety Finding

During registration review, EPA assessed the risks from exposure to acequinocyl, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to acequinocyl residues. Thus, EPA has determined that the tolerances for residues of acequinocyl are safe. Adequate enforcement methodology as described in the supporting documents is available to enforce the tolerance expression. For further details, see Acequinocyl: Draft Human Health Risk Assessment to Support Registration Review, which can be found in the docket ID number listed in in the heading of this unit.

M. 40 CFR 180.611; Pinoxaden; Case 7266 (Docket ID No. EPA-HQ-OPP-2015-603)

1. Proposed Changes to the Current Tolerances

EPA is proposing to amend the current tolerances by:

• Revising the current tolerance expressions in (a)(1) and (a)(2) for agricultural and livestock commodities to describe more clearly the scope or coverage of the tolerances and the method for measuring compliance. Consistent with EPA policy, the revised tolerance expression will clarify that: (1) As provided in FFDCA section 408(a)(3), the tolerance covers metabolites and degradates of pinoxaden not specifically mentioned; and (2) Compliance with the specified tolerance levels is to be determined by measuring the specific compounds mentioned in the tolerance expression. The revisions to the tolerance expression do not substantively change the tolerance or, in any way, modify the permissible level of residues permitted by the tolerances.

• Establishing new tolerances in paragraph (a)(2) for livestock commodities “Goat, fat”; “Goat, meat”; “Goat, meat byproducts”; “Hog, fat”; “Hog, meat”; “Hog, meat byproducts”; “Horse, fat”; “Horse, meat”; “Horse, meat byproducts”; “Sheep, fat”; “Sheep, meat”; and “Sheep, meat byproducts” at 0.04 ppm.

• Modifying tolerances for “Barley, hay” and “Wheat, straw” from 1.5 ppm to 3 ppm, “Barley, straw” from 1.0 ppm to 3 ppm and “Wheat, hay” from 2.0 ppm to 3 ppm to harmonize with Codex MRLs. Because the Codex MRLs for “Barley, grain”; “Wheat, grain”; “Eggs”; “Poultry, fat”; “Poultry, meat”; and “Poultry, meat byproducts” are lower than the established U.S. tolerances for these commodities, the tolerances will not be harmonized.

• Modifying tolerances to reflect OECD's rounding class practices.

2. Safety Finding

During registration review, EPA assessed the risks from exposure to pinoxaden, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to pinoxaden residues. Thus, EPA has determined that the tolerances for residues of pinoxaden are safe. Adequate enforcement methodology as described in the supporting documents is available to enforce the tolerance expression. For further details, see Pinoxaden: Human Health Draft Risk Assessment for Registration Review and Pinoxaden: Response to United States Department of Agriculture's (USDA's) Comments on the Interim Decision for Pinoxaden for Registration Review, which can be found in the docket ID number listed in in the heading of this unit.

N. 40 CFR 180.613; Flonicamid; Case 7436 (Docket ID No. EPA-HQ-OPP-2014-0777)

1. Proposed Changes to the Current Tolerances

EPA is proposing to amend the current tolerances by:

• Revising the commodity definitions for “Florence fennel” to “Fennel, florence, fresh leaves and stalk”, “Peppermint, tops” to “Peppermint, fresh leaves”; and “Spearmint, tops” to “Spearmint, fresh leaves.” These revisions will help facilitate efficient commodity searches and do not substantively change the tolerance or, in any way, modify the permissible level of residues in or on the commodity listed in the regulation.

• Modifying multiple tolerances to reflect OECD's rounding class practices.

2. Safety Finding

During registration review, EPA assessed the risks from exposure to flonicamid, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to flonicamid residues. Thus, EPA has determined that the tolerances for residues of flonicamid are safe. Adequate enforcement methodology as described in the supporting documents is available to enforce the tolerance expression. For further details, see Flonicamid: Human Health Draft Risk Assessment for Registration Review, which can be found in the docket listed in the heading of this unit.

O. 40 CFR 180.647; d-Phenothrin; Case 0426 (Docket ID No. EPA-HQ-OPP-2011-0539)

1. Proposed Changes to the Current Tolerances

EPA is proposing to amend the current tolerances by:

• Revising the current tolerance expression to describe more clearly the scope or coverage of the tolerances and the method for measuring compliance. Consistent with EPA policy, the revised tolerance expression will clarify that: (1) As provided in FFDCA section 408(a)(3), the tolerance covers metabolites and degradates of d-phenothrin not specifically mentioned; and (2) Compliance with the specified tolerance levels is to be determined by measuring the specific compounds mentioned in the tolerance expression. The revisions to the tolerance expression do not substantively change the tolerance or, in any way, modify the permissible level of residues permitted by the tolerances. Adequate enforcement methodology as described in the supporting documents is available to enforce the tolerance expression.

2. Safety Finding

EPA has determined that the proposed change to the tolerance expression would not impact EPA's previous safety findings for the established tolerances for d-phenothrin, because the change has no substantive effect on the tolerances or supporting risk assessments, but rather is merely intended to clarify the existing tolerance expression. For further details, see d-Phenothrin Draft Human Health Risk Assessment for Registration Review, which can be found in the docket listed in the heading of this unit.

IV. Proposed Effective Date

EPA is proposing that these tolerance actions would be effective on the date of publication of the final rule in the Federal Register. However, for actions in the final rule that lower or revoke existing tolerances, EPA is proposing an expiration date of six months after the date of publication of the final rule in the Federal Register, to allow a reasonable interval for producers in exporting members of the World Trade Organization's (WTO's) Sanitary and Phytosanitary (SPS) Measures Agreement to adapt to the requirements.

V. Statutory and Executive Order Reviews

Additional information about these statutes and Executive orders can be found at https://www.epa.gov/regulations/and-executive-orders.

A. Executive Orders 12866: Regulatory Planning and Review and 14094: Modernizing Regulatory Review

This action is exempt under Executive Order 12866 (58 FR 51735) (October 4, 1993), as amended by Executive Order 14094 (88 FR 21879) (April 11, 2023), because it proposes to establish or modify a pesticide tolerance or a tolerance exemption under FFDCA section 408. This exemption also applies to tolerance revocations for which extraordinary circumstances do not exist. As such, this exemption applies to the tolerance revocations in this proposed rule because the Agency knows of no extraordinary circumstances that warrant reconsideration of this exemption for those proposed tolerance revocations.

B. Paperwork Reduction Act (PRA)

This action does not impose an information collection burden under the PRA 44 U.S.C. 3501 et seq., because it does not contain any information collection activities.

C. Regulatory Flexibility Act (RFA)

I certify that this action will not have a significant economic impact on a substantial number of small entities under the RFA, 5 U.S.C. 601 et seq. In making this determination, EPA concludes that the impact of concern for this rulemaking is any significant adverse economic impact on small entities and that the Agency is certifying that this rulemaking will not have a significant economic impact on a substantial number of small entities because the rulemaking has no net burden on small entities subject to the rule. This determination takes into account an EPA analysis for tolerance establishments and modifications that published in the Federal Register of May 4, 1981 (46 FR 24950) (FRL-1809-5) and for tolerance revocations on December 17, 1997 (62 FR 66020) (FRL-5753-1).

Additionally, in a 2001 memorandum, EPA determined that eight conditions must all be satisfied in order for an import tolerance or tolerance exemption revocation to adversely affect a significant number of small entity importers, and that there is a negligible joint probability of all eight conditions holding simultaneously with respect to any particular revocation. See Memorandum from Denise Keehner, Division Director, Biological and Economic Analysis Division, Office of Pesticide Programs, entitled “RFA/SBREFA Certification for Import Tolerance Revocation” and dated May 25, 2001, which is available in the docket.

For the pesticides named in this proposed rule, EPA concludes that there is no reasonable expectation that residues of the pesticides for tolerances listed in this proposed rule for revocation will be found on the commodities discussed in this proposed rule, and the Agency knows of no extraordinary circumstances that exist as to the present proposed rule that would change EPA's previous analyses.

Any comments about the Agency's determination for this rulemaking should be submitted to EPA along with comments on the proposed rule and will be addressed in the final rule.

D. Unfunded Mandates Reform Act (UMRA)

This action does not contain any unfunded mandate as described in UMRA, 2 U.S.C. 1531-1538, and does not significantly or uniquely affect small governments. The action imposes no enforceable duty on any State, local or Tribal governments or the private sector.

E. Executive Order 13132: Federalism

This action does not have federalism implications as specified in Executive Order 13132 (64 FR 43255) (August 10, 1999), because it will not have substantial direct effects on the States, on the relationship between the National Government and the States, or on the distribution of power and responsibilities among the various levels of government.

F. Executive Order 13175: Consultation and Coordination With Indian Tribal Governments

This action does not have Tribal implications as specified in Executive Order 13175 (65 FR 67249) (November 9, 2000), because it will not have substantial direct effects on Tribal governments, on the relationship between the Federal Government and the Indian tribes, or on the distribution of power and responsibilities between the Federal Government and Indian tribes.

G. Executive Order 13045: Protection of Children From Environmental Health Risks and Safety Risks

Executive Order 13045 (62 FR 19885) (April 23, 1997) directs Federal agencies to include an evaluation of the health and safety effects of the planned regulation on children in Federal health and safety standards and explain why the regulation is preferable to potentially effective and reasonably feasible alternatives. This action is not subject to Executive Order 13045 because it is not a significant regulatory action under section 3(f)(1) of Executive Order 12866 (See Unit V.A.), and because EPA does not believe the environmental health or safety risks addressed by this action present a disproportionate risk to children. However, EPA's Policy on Children's Health applies to this action.

This rule proposes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). Consistent with FFDCA section 408(b)(2)(D), and the factors specified therein, EPA has reviewed the available scientific data and other relevant information in support of these proposed tolerance actions. The Agency's consideration is documented in the pesticide specific registration review decision documents. See the pesticide specific discussions in Unit III. and access the chemical specific registration review documents in each chemical docket at https://www.regulations.gov.

H. Executive Order 13211: Actions Concerning Regulations That Significantly Affect Energy Supply, Distribution or Use

This action is not subject to Executive Order 13211 (66 FR 28355) (May 22, 2001) because it is not a significant regulatory action under Executive Order 12866.

I. National Technology Transfer Advancement Act (NTTAA)

This action does not involve technical standards that would require Agency consideration under NTTAA section 12(d), 15 U.S.C. 272.

J. Executive Order 12898: Federal Actions To Address Environmental Justice in Minority Populations and Low-Income Populations

Executive Order 12898 (59 FR 7629) (February 16, 1994) directs Federal agencies, to the greatest extent practicable and permitted by law, to make environmental justice part of their mission by identifying and addressing, as appropriate, disproportionately high and adverse human health or environmental effects of their programs, policies, and activities on minority populations (people of color and/or indigenous peoples) and low-income populations. As discussed in more detail in the pesticide specific risk assessments conducted as part of the registration review for each pesticide as identified in Unit III., EPA has considered the safety risks for the pesticides subject to this rulemaking and in the context of the tolerance actions set out in this rulemaking. EPA believes that the human health and environmental conditions that exist prior to this action do not result in disproportionate and adverse effects on people of color, low-income populations, and/or indigenous peoples. Furthermore, EPA believes that this action is not likely to result in new disproportionate and adverse effects on people of color, low-income populations and/or indigenous peoples.

List of Subjects in 40 CFR Part 180

Environmental protection, Administrative practice and procedure, Agricultural commodities, Pesticides and pests, Reporting and recordkeeping requirements.

Dated: June 20, 2024.
Edward Messina,
Director, Office of Pesticide Programs.

Therefore, for the reasons stated in the preamble, the Environmental Protection Agency proposes to amend 40 CFR chapter I as follows:

PART 180—TOLERANCES AND EXEMPTIONS FOR PESTICIDE CHEMICAL RESIDUES IN FOOD

1. The authority citation for part 180 continues to read as follows:

Authority: 2 1 U.S.C. 321(q), 346a and 371.

2. Amend § 180.209 by:

a. Revising the introductory text in paragraph (a);

b. In the table in paragraph (a):

i. Adding the table heading “Table 1 to Paragraph (a)”;

ii. Revising the entries for “Alfalfa, forage” and “Alfalfa, hay”;

iii. Adding in alphabetical order the entry for “Peppermint, fresh leaves”;

iv. Removing the entry for “Peppermint, tops”;

v. Adding in alphabetical order the entry for “Spearmint, fresh leaves”;

vi. Removing the entry for “Spearmint, tops”; and

vii. Revising the entry for “Watermelon”.

The revisions and additions read as follows:

§ 180.209 Terbacil; tolerances for residues.

(a) General. Tolerances are established for residues of the herbicide terbacil, including its metabolites and degradates, in or on the commodities in table 1 to this paragraph (a). Compliance with the tolerance levels specified in table 1 to this paragraph (a) is to be determined by measuring only the sum of terbacil (5-chloro-3-(1,1-dimethylethyl)-6-methyl-2,4(1H,3H)-pyrimidinedione) and its metabolites 3-tert-butyl-5-chloro-6-hydroxymethyluracil, 6-chloro-2,3-dihydro-7-hydroxymethyl 3,3-dimethyl-5H-oxazolo(3,2-a) pyrimidin-5-one, and 6-chloro-2,3-dihydro-3,3,7-trimethyl-5H-oxazolo(3,2-a) pyrimidin-5-one, calculated as the stoichiometric equivalent of terbacil, in or on the following commodities:

Table 1 to Paragraph (a)
Commodity | Parts per million
Alfalfa, forage | 1
Alfalfa, hay | 2
* * * * * * *
Peppermint, fresh leaves | 2
Spearmint, fresh leaves | 2
* * * * * * *
Watermelon | 1

* * * * *

3. Amend § 180.210 by revising and republishing paragraph (a) to read as follows:

§ 180.210 Bromacil; tolerances for residues.

(a) General. Tolerances are established for residues of bromacil, including its metabolites and degradates, in or on the commodities in table 1 to this paragraph (a). Compliance with the tolerance levels specified in table 1 to this paragraph (a) is to be determined by measuring only bromacil, 5-bromo-6-methyl-3-(1-methylpropyl)-2,4(1H,3H)-pyrimidinedione, in/on the commodity.

Table 1 to Paragraph (a)
Commodity | Parts per million
Fruit, citrus, group 10-10 | 0.1
Pineapple | 0.1

* * * * *

4. Amend § 180.368 by:

a. Revising the section heading; and

b. Revising and republishing the table in paragraph (a)(1) and table 2 to paragraph (a)(2).

The revisions read as follows:

§ 180.368 Metolachlor and S-metolachlor; tolerances for residues.

(a) * * *

(1) * * *

Table 1 to Paragraph (a)(1)
Commodity | Parts per million
Almond, hulls | 0.3
Animal feed, nongrass, group 18 | 1
Cattle, fat | 0.02
Cattle, kidney | 0.2
Cattle, liver | 0.05
Cattle, meat | 0.02
Cattle, meat byproducts, except kidney and liver | 0.04
Corn, field, forage | 6
Corn, field, grain | 0.1
Corn, field, stover | 6
Corn, pop, grain | 0.1
Corn, pop, stover | 6
Corn, sweet, forage | 6
Corn, sweet, kernel plus cob with husks removed | 0.1
Corn, sweet, stover | 6
Cotton, gin byproducts | 4
Cotton, undelinted seed | 0.1
Dillweed | 0.5
Egg | 0.02
Goat, fat | 0.02
Goat, kidney | 0.2
Goat, liver | 0.05
Goat, meat | 0.02
Goat, meat byproducts, except kidney and liver | 0.04
Grass, forage, fodder and hay, group 17, forage | 10
Grass, forage, fodder and hay, group 17, hay | 0.2
Horse, fat | 0.02
Horse, kidney | 0.2
Horse, liver | 0.05
Horse, meat | 0.02
Horse, meat byproducts, except kidney and liver | 0.04
Milk | 0.02
Nut, tree, group 14 | 0.1
Okra | 0.5
Peanut | 0.2
Peanut, hay | 20
Peanut, meal | 0.4
Potato | 0.2
Poultry, fat | 0.02
Poultry, meat | 0.02
Poultry, meat byproducts | 0.05
Safflower, seed | 0.1
Sheep, fat | 0.02
Sheep, kidney | 0.2
Sheep, liver | 0.05
Sheep, meat | 0.02
Sheep, meat byproducts, except kidney and liver | 0.04
Sorghum, grain, forage | 1
Sorghum, grain, grain | 0.3
Sorghum, grain, stover | 4
Soybean, forage | 5
Soybean, hay | 8
Soybean, seed | 0.2
Tomato | 0.1
Vegetable, foliage of legume, except soybean, subgroup 7A | 15
Vegetable, legume, group 6 | 0.3

(2) * * *

Table 2 to Paragraph (a)(2)
Commodity | Parts per million
Beet, sugar, leaves | 15
Beet, sugar, molasses | 2
Beet, sugar, roots | 0.5
Berry, low growing, subgroup 13-07G, except cranberry | 0.4
Brassica, leafy greens, subgroup 4-16B | 1.8
Bushberry subgroup 13-07B | 0.15
Caneberry subgroup 13-07A | 0.1
Carrot, roots | 0.4
Cattle, fat | 0.02
Cattle, kidney | 0.2
Cattle, liver | 0.05
Cattle, meat | 0.02
Cattle, meat byproducts, except kidney and liver | 0.04
Cilantro, fresh leaves | 8
Coriander, seed | 0.13
Corn, field, forage | 40
Corn, field, grain | 0.1
Corn, field, stover | 40
Corn, pop, grain | 0.1
Corn, pop, stover | 40
Corn, sweet, forage | 6
Corn, sweet, kernel plus cob with husks removed | 0.1
Corn, sweet, stover | 40
Cotton, gin byproducts | 4
Cottonseed subgroup 20C | 0.1
Dill, seed | 15
Dillweed | 5
Dillweed, dried leaves | 9
Egg | 0.02
Goat, fat | 0.02
Goat, kidney | 0.2
Goat, liver | 0.05
Goat, meat | 0.02
Goat, meat byproducts, except kidney and liver | 0.04
Grain, aspirated fractions | 4
Grass, forage, fodder and hay, group 17, forage | 10
Grass, forage, fodder and hay, group 17, hay | 0.2
Horse, fat | 0.02
Horse, kidney | 0.2
Horse, liver | 0.05
Horse, meat | 0.02
Horse, meat byproducts, except kidney and liver | 0.04
Kohlrabi | 0.6
Leaf petiole vegetable subgroup 22B | 0.1
Lettuce | 1.5
Milk | 0.02
Onion, bulb, subgroup 3-07A | 0.1
Onion, green, subgroup 3-07B | 2
Peanut | 0.2
Peanut, hay | 20
Peanut, meal | 0.4
Poultry, fat | 0.02
Poultry, meat | 0.02
Poultry, meat byproducts | 0.05
Rosemary, dried leaves | 2
Rosemary, fresh leaves | 1.5
Safflower, seed | 0.1
Sesame, seed | 0.13
Sheep, fat | 0.02
Sheep, kidney | 0.2
Sheep, liver | 0.05
Sheep, meat | 0.02
Sheep, meat byproducts, except kidney and liver | 0.04
Sorghum, grain, forage | 1
Sorghum, grain, grain | 0.3
Sorghum, grain, stover | 4
Sorghum, sweet, stalk | 4
Soybean, forage | 5
Soybean, hay | 8
Soybean, meal | 1.5
Soybean, seed | 0.9
Spinach | 0.5
Stalk and stem vegetable subgroup 22A, except kohlrabi | 0.1
Stevia, dried leaves | 15
Sugarcane, cane | 0.2
Sugarcane, molasses | 1.5
Sunflower, meal | 1
Sunflower subgroup 20B | 1
Swiss chard | 0.15
Tomato, paste | 0.3
Vegetable, brassica, head and stem, group 5-16 | 0.6
Vegetable, cucurbit, group 9 | 0.5
Vegetable, foliage of legume, except soybean, subgroup 7A | 15
Vegetable, fruiting, group 8-10, except tabasco pepper | 0.1
Vegetable, leaves of root and tuber group 2, except sugar beet | 2
Vegetable, legume, group 6 | 0.3
Vegetable, root, except sugar beet, subgroup 1B, except carrot | 0.3
Vegetable, tuberous and corm, subgroup 1C | 0.2

* * * * *

5. Revise and republish § 180.370 to read as follows:

§ 180.370 Etridiazole; tolerances for residues.

(a) General. Tolerances are established for residues of the fungicide etridiazole, including its metabolites and degradates, in or on the commodities in table 1 to this paragraph (a). Compliance with the tolerance levels is to be determined by measuring only the residues of etridiazole, (5-ethoxy-3-(trichloromethyl)-1,2,4-thiadiazole), and its metabolite etridiazole acid, (3-carboxy-5-ethoxy-1,2,4,-thiadiazole), calculated as the stoichiometric equivalent of etridiazole, in or on the commodity:

Table 1 to Paragraph (a)
Commodity | Parts per million
Cotton, gin byproducts | 0.1
Cotton, undelinted seed | 0.1
Tomato | 0.1

(b) [Reserved]

6. Revise and republish § 180.417 to read as follows:

§ 180.417 Triclopyr; tolerances for residues.

(a) General. (1) Tolerances are established for residues of the herbicide triclopyr, including its metabolites and degradates, in or on the commodities in table 1 to this paragraph (a)(1) resulting from the application of the butoxyethyl ester of triclopyr, triethylamine salt of triclopyr, or choline salt of triclopyr. Compliance with the tolerance levels specified in table 1 to this paragraph (a)(1) is to be determined by measuring only triclopyr, 2-[(3,5,6-trichloro-2-pyridinyl)oxy]acetic acid.

Table 1 to Paragraph (a)(1)
Commodity | Parts per million
Egg | 0.05
Grass, forage, fodder and hay, group 17, forage | 700
Grass, forage, fodder and hay, group 17, hay | 200
Milk | 0.6
Poultry, fat | 0.1
Poultry, meat | 0.1
Poultry, meat byproducts, except kidney | 0.1
Rice, grain | 0.3
Sugarcane, cane | 0.04

(2) Tolerances are established for residues of the herbicide triclopyr, including its metabolites and degradates, in or on the commodities in table 2 to this paragraph (a)(2) resulting from the application of the butoxyethyl ester of triclopyr, triethylamine salt of triclopyr, or choline salt of triclopyr. Compliance with the tolerance levels specified in table 2 to this paragraph (a)(2) is to be determined by measuring the combined residues of triclopyr, 2-[(3,5,6-trichloro-2-pyridinyl)oxy]acetic acid, and its metabolite 3,5,6-trichloro-2-pyridinol (TCP), calculated as the stoichiometric equivalent of triclopyr.

Table 2 to Paragraph (a)(2)
Commodity | Parts per million
Cattle, fat | 0.1
Cattle, meat | 0.1
Cattle, meat byproducts | 0.5
Goat, fat | 0.1
Goat, meat | 0.1
Goat, meat byproducts | 0.5
Hog, fat | 0.1
Hog, meat | 0.1
Hog, meat byproducts | 0.5
Horse, fat | 0.1
Horse, meat | 0.1
Horse, meat byproducts | 0.5
Sheep, fat | 0.1
Sheep, meat | 0.1
Sheep, meat byproducts | 0.5

(3) Tolerances are established for residues of the herbicide triclopyr, including its metabolites and degradates, in or on the commodities in table 3 to this paragraph (a)(3) resulting from the application of the butoxyethyl ester of triclopyr, triethylamine salt of triclopyr, or choline salt of triclopyr. Compliance with the tolerance levels specified in table 3 to this paragraph (a)(3) is to be determined by measuring the combined residues of triclopyr (2-[(3,5,6-trichloro-2-pyridinyl)oxy]acetic acid) and its metabolites 3,5,6-trichloro-2-pyridinol (TCP) and 2-methoxy-3,5,6-trichloropyridine (TMP), calculated as the stoichiometric equivalent of triclopyr.

Table 3 to Paragraph (a)(3)
Commodity | Parts per million
Fish, freshwater, finfish | 3
Fish, shellfish, crustacean | 3.5
Fish, shellfish, mollusc | 3.5

(b) [Reserved]

7. Amend § 180.435, in table 1 to paragraph (a)(1), by revising the entries for “Grain, cereal, Group 15, except sweet corn”; and “Tomato” to read as follows:

§ 180.435 Deltamethrin; tolerances for residues.

(a) * * *

(1) * * *

Table 1 to Paragraph (a)(1)
Commodity | Parts per million
* * * * * * *
Grain, cereal, group 15, except sweet corn | 2
* * * * * * *
Tomato | 0.3
* * * * * * *

* * * * *

8. Amend § 180.436, in paragraph (a), by:

a. Revising and republishing paragraph (a)(1);

b. Revising paragraph (a)(2);

c. Removing paragraph (a)(3); and

d. Redesignating paragraph (a)(4) as paragraph (a)(3), and revising newly redesignated paragraph (a)(3).

The revisions read as follows:

§ 180.436 Cyfluthrin and isomer beta-cyfluthrin; tolerances for residues.

(a) General. (1) Tolerances are established for residues of cyfluthrin, including its metabolites and degradates, in or on the commodities in table 1 to this paragraph (a)(1). Compliance with the tolerance levels specified in table 1 to this paragraph (a)(1) is to be determined by measuring only cyfluthrin, (cyano(4-fluoro-3-phenoxyphenyl)methyl-3-(2,2-dichloroethenyl)-2,2dimethyl-cyclopropane-carboxylate, in or on the commodity.

Table 1 to Paragraph (a)(1)
Commodity | Parts per million
Alfalfa | 5
Alfalfa, forage | 5
Alfalfa, hay | 13
Almond, hulls | 0.5
Barley, bran | 0.5
Barley, grain | 0.15
Beet, sugar, dried pulp | 1
Beet, sugar, roots | 0.1
Brassica, leafy greens, subgroup 4-16B | 7
Buckwheat, grain | 0.15
Carrot, roots | 0.2
Cattle, fat | 2
Cattle, meat | 0.1
Cattle, meat byproducts | 0.1
Celtuce | 6
Citrus, dried pulp | 0.3
Citrus, oil | 0.3
Corn, field, grain | 0.05
Corn, pop, grain | 0.05
Corn, sweet, kernel plus cob with husks removed | 0.05
Cotton, hulls | 2
Cotton, refined oil | 2
Cotton, undelinted seed | 1
Egg | 0.01
Fennel, florence, fresh leaves and stalk | 6
Fruit, citrus, group 10-10 | 0.3
Fruit, pome, group 11-10 | 0.5
Fruit, stone, group 12-12 | 0.3
Goat, fat | 2
Goat, meat | 0.05
Goat, meat byproducts | 0.05
Grain, aspirated fractions | 150
Grain, cereal, forage, fodder and hay, group 16, forage, except rice | 25
Grain, cereal, forage, fodder and hay, group 16, hay, except rice | 6
Grain, cereal, forage, fodder and hay, group 16, stover, except rice | 30
Grain, cereal, forage, fodder and hay, group 16, straw, except rice | 7
Grape | 1
Grape, raisin | 3.5
Grass, forage, fodder and hay, group 17, forage | 12
Grass, forage, fodder and hay, group 17, hay | 50
Hog, fat | 0.5
Hog, meat | 0.01
Hog, meat byproducts | 0.02
Hop, dried cones | 20
Hop, vines | 4
Horse, fat | 2
Horse, meat | 0.05
Horse, meat byproducts | 0.05
Kohlrabi | 2.5
Leaf petiole vegetable subgroup 22B | 6
Leafy greens subgroup 4-16A | 6
Milk | 0.2
Milk, fat | 5
Millet, grain | 0.15
Nut, tree, group 14-12 | 0.01
Oat, bran | 0.5
Oat, grain | 0.15
Pea and bean, dried shelled, except soybean, subgroup 6C | 0.15
Pea, dry, seed | 0.15
Pea, southern, succulent | 0.25
Peanut | 0.01
Peanut, hay | 6
Poultry, fat | 0.01
Poultry, meat | 0.01
Poultry, meat byproducts | 0.01
Radish, roots | 1
Rye, bran | 0.5
Rye, grain | 0.15
Sheep, fat | 2
Sheep, meat | 0.05
Sheep, meat byproducts | 0.05
Sorghum, grain, grain | 3.5
Soybean, forage | 8
Soybean, hay | 4
Soybean, seed | 0.03
Sugarcane, cane | 0.05
Sugarcane, molasses | 0.2
Sunflower, forage | 5
Sunflower, seed | 0.02
Teosinte, grain | 0.05
Tomato, dry pomace | 5
Tomato, paste | 0.5
Tomato, wet pomace | 5
Triticale, grain | 0.15
Vegetable, brassica, head and stem, group 5-16 | 2.5
Vegetable, cucurbit, group 9 | 0.1
Vegetable, fruiting, group 8-10 | 0.5
Vegetable, tuberous and corm, subgroup 1C | 0.01
Wheat, bran | 0.5
Wheat, grain | 0.15
Wheat, shorts | 0.5

(2) A tolerance of 0.05 ppm is established for residues of cyfluthrin, including its metabolites and degradates, in or on all food and feed items when cyfluthrin is used in food or feed handling establishments. Compliance with the tolerance level specified is to be determined by measuring only cyfluthrin, (cyano(4-fluoro-3-phenoxyphenyl)methyl-3-(2,2-dichloroethenyl)-2,2dimethyl-cyclopropane-carboxylate, in or on the commodity.

(3) Tolerances are established for residues of beta-cyfluthrin, including its metabolites and degradates, in or on the commodities in table 2 to this paragraph (a)(3). Compliance with the tolerance levels specified in table 2 is to be determined by measuring only the sum of beta-cyfluthrin, cyano(4-fluoro-3-phenoxyphenyl)methyl-3-(2,2-dichloroethenyl)-2,2-dimethyl-cyclopropanecarboxylate [mixture comprising the enantiomeric pair (R)-α-cyano-4-fluoro-3-phenoxybenzyl (1S,3S)-3-(2,2-dichlorovinyl)-2,2-dimethylcyclopropanecarboxylate and (S)-α-cyano-4-fluoro-3-phenoxybenzyl (1R,3R)-3-(2,2-dichlorovinyl)-2,2-dimethylcyclopropanecarboxylate with the enantiomeric pair (R)-α-cyano-4-fluoro-3-phenoxybenzyl (1S,3R)-3-(2,2-dichlorovinyl)-2,2-dimethylcyclopropanecarboxylate and (S)-α-cyano-4-fluoro-3-phenoxybenzyl (1R,3S)-3-(2,2-dichlorovinyl)-2,2-dimethylcyclopropanecarboxylate], in or on the commodity.

Table 2 to Paragraph (a)(3)
Commodity | Parts per million
Alfalfa | 5
Alfalfa, forage | 5
Alfalfa, hay | 13
Almond, hulls | 0.5
Barley, bran | 0.5
Barley, grain | 0.15
Beet, sugar, dried pulp | 1
Beet, sugar, roots | 0.1
Brassica, leafy greens, subgroup 4-16B | 7
Buckwheat, grain | 0.15
Carrot, roots | 0.2
Cattle, fat | 2
Cattle, meat | 0.1
Cattle, meat byproducts | 0.1
Celtuce | 6
Citrus, dried pulp | 0.3
Citrus, oil | 0.3
Corn, field, grain | 0.05
Corn, pop, grain | 0.05
Corn, sweet, kernel plus cob with husks removed | 0.05
Cotton, hulls | 2
Cotton, refined oil | 2
Cotton, undelinted seed | 1
Egg | 0.01
Fennel, florence, fresh leaves and stalk | 6
Fruit, citrus, group 10-10 | 0.3
Fruit, pome, group 11-10 | 0.5
Fruit, stone, group 12-12 | 0.3
Goat, fat | 2
Goat, meat | 0.05
Goat, meat byproducts | 0.05
Grain, aspirated fractions | 150
Grain, cereal, forage, fodder and hay, group 16, forage, except rice | 25
Grain, cereal, forage, fodder and hay, group 16, hay, except rice | 6
Grain, cereal, forage, fodder and hay, group 16, stover, except rice | 30
Grain, cereal, forage, fodder and hay, group 16, straw, except rice | 7
Grape | 1
Grape, raisin | 3.5
Grass, forage, fodder and hay, group 17, forage | 12
Grass, forage, fodder and hay, group 17, hay | 50
Hog, fat | 0.5
Hog, meat | 0.01
Hog, meat byproducts | 0.02
Hop, dried cones | 20
Hop, vines | 4
Horse, fat | 2
Horse, meat | 0.05
Horse, meat byproducts | 0.05
Kohlrabi | 2.5
Leaf petiole vegetable subgroup 22B | 6
Leafy greens subgroup 4-16A | 6
Milk | 0.2
Milk, fat | 5
Millet, grain | 0.15
Nut, tree, group 14-12 | 0.01
Oat, bran | 0.5
Oat, grain | 0.15
Pea and bean, dried shelled, except soybean, subgroup 6C | 0.15
Pea, dry, seed | 0.15
Pea, southern, succulent | 0.25
Peanut | 0.01
Peanut, hay | 6
Poultry, fat | 0.01
Poultry, meat | 0.01
Poultry, meat byproducts | 0.01
Radish, roots | 1
Rye, bran | 0.5
Rye, grain | 0.15
Sheep, fat | 2
Sheep, meat | 0.05
Sheep, meat byproducts | 0.05
Sorghum, grain, grain | 3.5
Soybean, forage | 8
Soybean, hay | 4
Soybean, seed | 0.03
Sugarcane, cane | 0.05
Sugarcane, molasses | 0.2
Sunflower, forage | 5
Sunflower, seed | 0.02
Teosinte, grain | 0.05
Tomato, paste | 0.5
Tomato, pomace | 5
Triticale, grain | 0.15
Vegetable, brassica, head and stem, group 5-16 | 2.5
Vegetable, cucurbit, group 9 | 0.1
Vegetable, fruiting, group 8-10 | 0.5
Vegetable, tuberous and corm, subgroup 1C | 0.01
Wheat, bran | 0.5
Wheat, grain | 0.15
Wheat, shorts | 0.5

* * * * *

9. Amend § 180.485 by:

a. Revising and republishing paragraph (a)(1);

b. Adding the table heading “Table 2 to Paragraph (a)(2)” to the table in paragraph (a)(2); and

c. Adding the table heading “Table 3 to Paragraph (a)(3)” to the table in paragraph (a)(3).

The revision and addition read as follows:

§ 180.485 Cyproconazole; tolerances for residues.

(a) General. (1) Tolerances are established for residues of the free and conjugated forms of the fungicide cyproconazole, including its metabolites and degradates, in or on the commodities in table 1 to this paragraph (a)(1). Compliance with the proposed tolerance levels specified in table 1 to this paragraph (a)(1) is to be determined by measuring only cyproconazole (α-(4-chlorophenyl)-α-(1-cyclopropylethyl)-1H-1,2,4-triazole-1-ethanol) in or on the following commodities:

Table 1 to Paragraph (a)(1)
Commodity | Parts per million
Cattle, fat | 0.01
Cattle, meat byproducts, except liver | 0.01
Coffee, green bean ¹ | 0.1
Corn, field, forage | 0.6
Corn, field, grain | 0.01
Corn, field, stover | 1.2
Goat, fat | 0.01
Goat, meat byproducts, except liver | 0.01
Grain, aspirated fractions | 2.5
Horse, fat | 0.01
Horse, meat byproducts, except liver | 0.01
Peanut | 0.01
Peanut, hay | 6
Sheep, fat | 0.01
Sheep, meat byproducts, except liver | 0.01
Soybean, forage | 1
Soybean, hay | 3
Soybean, oil | 0.1
Soybean, seed | 0.05
Wheat, forage | 0.8
Wheat, grain | 0.08
Wheat, hay | 1.3
Wheat, milled byproducts | 0.1
Wheat, straw | 0.9
¹ There are no U.S. registrations as of February 15, 2008, for use on coffee bean.

* * * * *

10. Amend § 180.535 by:

a. Revising the introductory text in paragraph (a);

b. In the table to paragraph (a):

i. Adding the table heading “Table 1 to Paragraph (a)”;

ii. Removing the entry for “Barley, hay at 12.0”;

iii. Adding in alphabetical order the entry for “Barley, forage”;

iv. Revising the entry for “Barley, straw”

v. Removing the entry for “Grass, forage”;

vi. Adding in alphabetical order the entries for “Grass, forage, fodder and hay, group 17, forage” and “Grass, forage, fodder and hay, group 17, hay”;

vii. Removing the entry for “Grass, hay”;

viii. Revising the entries for “Millet, forage”, “Millet, hay”, “Millet, proso, straw”, “Oat, forage”, “Oat, hay”, “Oat, straw”, “Wheat, forage”, “Wheat, hay”, and “Wheat, straw”.

The revisions and additions read as follows:

§ 180.535 Fluroxypyr 1-methylheptyl ester; tolerances for residues.

(a) General. Tolerances are established for residues of the herbicide fluroxypyr 1-methylheptyl ester, including its metabolites and degradates, in or on the commodities listed in table 1 to this paragraph (a). Compliance with the tolerance levels specified in table 1 to this paragraph (a) is to be determined by measuring only the sum of the free and conjugated forms of fluroxypyr 1-methylheptyl ester [1-methylheptyl 2-[(4-amino-3,5-dichloro- 6-fluoro-2-pyridinyl)oxy]acetate] and its metabolite fluroxypyr [2-[(4-amino-3,5-dichloro-6-fluoro-2-pyridinyl)oxy]acetic acid] calculated as the stoichiometric equivalent of fluroxypyr, in or on the commodity.

Table 1 to Paragraph (a)
Commodity | Parts per million
* * * * * * *
Barley, forage | 12
Barley, straw | 12
* * * * * * *
Grass, forage, fodder and hay, group 17, forage | 120
Grass, forage, fodder and hay, group 17, hay | 160
* * * * * * *
Millet, forage | 12
* * * * * * *
Millet, hay | 20
Millet, proso, straw | 12
Oat, forage | 12
* * * * * * *
Oat, hay | 20
Oat, straw | 12
* * * * * * *
Wheat, forage | 12
* * * * * * *
Wheat, hay | 20
Wheat, straw | 12

* * * * *

11. Amend § 180.585 by revising and republishing paragraph (a) to read as follows:

§ 180.585 Pyraflufen-ethyl; tolerances for residues.

(a) General. (1) Tolerances are established for residues of the herbicide, pyraflufen-ethyl, including its metabolites and degradates, in or on the plant commodities listed in table 1 to this paragraph (a)(1). Compliance with the plant commodity tolerance levels specified in the table is to be determined by measuring only the sum of the parent pyraflufen-ethyl, ethyl 2-[2-chloro-5-(4-chloro-5-difluoromethoxy)-1-methyl-1H-pyrazol-3-yl]-4-fluorophenoxy] acetate, and its acid metabolite, E-1, 2-chloro-5-(4-chloro-5-difluoromethoxy-1-methyl-1H-pyrazol-3-yl)-4-fluorophenoxyacetic acid, calculated as the stoichiometric equivalent of pyraflufen-ethyl in or on the commodity.

Table 1 to Paragraph (a)(1)
Commodity | Parts per million
Almond, hulls | 0.02
Corn, field, forage | 0.01
Corn, field, grain | 0.01
Corn, field, stover | 0.01
Cotton, gin byproducts | 1.5
Cottonseed subgroup 20C | 0.04
Fruit, pome, group 11-10 | 0.01
Fruit, small, vine climbing, except fuzzy kiwifruit, subgroup 13-07F | 0.01
Fruit, stone, group 12-12 | 0.01
Grass, forage, fodder and hay, group 17 | 1.5
Hop, dried cones | 0.02
Nut, tree, group 14-1 | 0.01
Peanut | 0.01
Peanut, hay | 0.07
Pomegranate | 0.01
Soybean, forage | 0.05
Soybean, hay | 0.1
Soybean, seed | 0.01
Tropical and subtropical, small fruit, edible peel, subgroup 23A | 0.01
Vegetable, tuberous and corm, subgroup 1C | 0.02
Wheat, forage | 0.02
Wheat, grain | 0.01
Wheat, hay | 0.01
Wheat, straw | 0.01

(2) Tolerances are established for residues of the herbicide, pyraflufen-ethyl, including its metabolites and degradates, in or on the livestock commodities in table 2 to this paragraph (a)(2). Compliance with the livestock commodity tolerance levels specified in table 2 to this paragraph (a)(2) is to be determined by measuring only the sum of the parent pyraflufen-ethyl, ethyl 2-[2-chloro-5-(4-chloro-5-difluoromethoxy)-1-methyl-1H-pyrazol-3-yl]-4-fluorophenoxy] acetate and its acid metabolites: E-1, 2-chloro-5-(4-chloro-5-difluoromethoxy-1-methyl-1H-pyrazol-3-yl)-4-fluorophenoxyacetic acid, and E-9, 2-chloro-5-(4-chloro-5-difluoromethoxy-1H-pyrazol-3-yl)-4-fluorophenoxyacetic acid, both calculated as the stoichiometric equivalent of pyraflufen-ethyl in or on the commodity.

Table 2 to Paragraph (a)(2)
Commodity | Parts per million
Cattle, fat | 0.03
Cattle, meat | 0.03
Cattle, meat byproducts | 0.03
Goat, fat | 0.03
Goat, meat | 0.03
Goat, meat byproducts | 0.03
Horse, fat | 0.03
Horse, meat | 0.03
Horse, meat byproducts | 0.03
Milk | 0.03
Sheep, fat | 0.03
Sheep, meat | 0.03
Sheep, meat byproducts | 0.03

* * * * *

12. Amend § 180.593 by revising and republishing the table in paragraph (a) to read as follows:

§ 180.593 Etoxazole; tolerances for residues.

(a) * * *

Table 1 to Paragraph (a)
Commodity | Parts per million
Almond, hulls | 3
Apple, wet pomace | 0.5
Avocado | 0.2
Beet, sugar, leaves | 1
Beet, sugar, roots | 0.02
Berry, low growing, subgroup 13-07G | 0.5
Caneberry subgroup 13-07A | 1.5
Canistel | 0.2
Cattle, fat | 0.02
Cattle, liver | 0.01
Cherry subgroup 12-12A | 1
Corn, field, forage | 0.8
Corn, field, grain | 0.01
Corn, field, refined oil | 0.03
Corn, field, stover | 4
Corn, pop, grain | 0.01
Corn, pop, stover | 4
Corn, sweet, forage | 1.5
Corn, sweet, kernel plus cob with husks removed | 0.01
Corn, sweet, stover | 5
Cotton, gin byproducts | 1
Cottonseed subgroup 20C | 0.05
Fruit, pome, group 11-10 | 0.2
Fruit, small vine climbing, except fuzzy kiwifruit, subgroup 13-07F | 0.5
Goat, fat | 0.02
Goat, liver | 0.01
Grape, raisin | 1.5
Hop, dried cones | 7
Horse, fat | 0.02
Horse, liver | 0.01
Mango | 0.2
Melon subgroup 9A | 0.2
Milk, fat | 0.01
Nut, tree group 14-12 | 0.01
Orange ¹ | 0.1
Orange, oil ¹ | 1
Papaya | 0.2
Peach subgroup 12-12B | 1
Pepper/eggplant subgroup 8-10B | 0.2
Peppermint, fresh leaves | 15
Peppermint, oil | 20
Plum, prune, dried | 0.3
Plum subgroup 12-12C | 0.15
Sapodilla | 0.2
Sapote, black | 0.2
Sapote, mamey | 0.2
Sheep, fat | 0.02
Sheep, liver | 0.01
Soybean, seed | 0.02
Spearmint, fresh leaves | 15
Spearmint, oil | 20
Squash/cucumber subgroup 9B | 0.02
Star apple | 0.2
Tangerine ² | 0.1
Tea, dried ³ | 15
Tomato | 0.2
¹ There are no U.S. registrations for orange and orange, oil as of December 2, 2015.
² There are no U.S. registrations for use of etoxazole on tangerines as of September 26, 2003.
³ There are no U.S. registrations for tea as of April 13, 2011.

* * * * *

13. Amend § 180.599, in table 1 to paragraph (a), by:

a. Revising the entries in the table for “Almond, hulls”, “Apple, wet pomace”, “Avocado”, “Bean, succulent shelled”, “Berry, low growing, subgroup 13-07G”, “Caneberry subgroup 13-07A”, and “Cherry, subgroup 12-12A”;

b. Removing the entry for “Citrus, oil”;

c. Revising the entry for “Cowpea, forage”;

d. Adding in alphabetical the entry “Fruit, citrus, group 10-10, oil”; and

e. Revising the entries for “Fruit, pome, group 11-10”, “Guava”, “Tropical and subtropical, small fruit, inedible peel, subgroup 24A”, “Vegetable, cucurbit, group 9”, and “Vegetable, fruiting, group 8-10”.

The revisions and addition read as follows:

§ 180.599 Acequinocyl; tolerances for residues.

(a) * * *

Table 1 to Paragraph (a)
Commodity | Parts per million
Almond, hulls | 2
Apple, wet pomace | 1
Avocado | 0.5
* * * * * * *
Bean, succulent shelled | 0.3
Berry, low growing, subgroup 13-07G | 0.5
* * * * * * *
Caneberry subgroup 13-07A | 4
* * * * * * *
Cherry, subgroup 12-12A | 1
Cowpea, forage | 6
* * * * * * *
Fruit, citrus, group 10-10, oil | 30
Fruit, pome, group 11-10 | 0.4
* * * * * * *
Guava | 0.9
* * * * * * *
Tropical and subtropical, small fruit, inedible peel, subgroup 24A | 2
Vegetable, cucurbit, group 9 | 0.3
Vegetable, fruiting, group 8-10 | 0.7

* * * * *

14. Amend § 180.611 by revising and republishing paragraph (a) to read as follows:

§ 180.611 Pinoxaden; tolerances for residues.

(a) General. (1) Tolerances are established for residues of the herbicide pinoxaden, including its metabolites and degradates, in or on the commodities in table 1 to this paragraph (a)(1). Compliance with the tolerance levels specified in table 1 to this paragraph (a) is to be determined by measuring pinoxaden (8-(2,6-diethyl-4-methylphenyl)-1,2,4,5-tetrahydro-7-oxo-7H-pyrazolo[1,2-d][1,4,5] oxadiazepin-9-yl 2,2-dimethylpropanoate) and its metabolites 8-(2,6-diethyl-4-methyl-phenyl)-tetrahydro-pyrazolo[1,2-d][1,4,5]oxadiazepine-7,9-dione and free and conjugated forms of 8-(2,6-diethyl-4-hydroxymethyl-phenyl)-tetrahydro-pyrazolo[1,2-d][1,4,5] oxadiazepine-7,9-dione, and 4-(7,9-dioxo-hexahydro-pyrazolo[1,2-d] [1,4,5]oxadiazepin-8-yl)-3,5-diethyl-benzoic acid, calculated as the stoichiometric equivalent of pinoxaden, in/on the following commodities.

Table 1 to Paragraph (a)(1)
Commodity | Parts per million
Barley, bran | 1.6
Barley, grain | 0.9
Barley, hay | 3
Barley, straw | 3
Egg | 0.06
Poultry, fat | 0.06
Poultry, meat | 0.06
Poultry, meat byproducts | 0.06
Wheat, bran | 3
Wheat, forage | 3.5
Wheat, grain | 1.3
Wheat, hay | 3
Wheat, straw | 3

(2) Tolerances are established for residues of the herbicide pinoxaden, including its metabolites and degradates, in or on the commodities in table 2 to this paragraph (a)(2). Compliance with the tolerance levels specified in table 2 to this paragraph (a)(2) is to be determined by measuring pinoxaden (8-(2,6-diethyl-4-methylphenyl)-1,2,4,5-tetrahydro-7-oxo-7H-pyrazolo[1,2-d][1,4,5]oxadiazepin-9-yl 2,2-dimethylpropanoate) and its metabolites 8-(2,6-diethyl-4-methyl-phenyl)-tetrahydro-pyrazolo[1,2-d][1,4,5]oxadiazepine-7,9-dione and free and conjugated forms of 8-(2,6-diethyl-4-hydroxymethyl-phenyl)-tetrahydro-pyrazolo[1,2-d][1,4,5] oxadiazepine-7,9-dione, calculated as the stoichiometric equivalent of pinoxaden, in/on the following commodities.

Table 2 to Paragraph (a)(2)
Commodity | Parts per million
Cattle, fat | 0.04
Cattle, meat | 0.04
Cattle, meat byproducts | 0.04
Goat, fat | 0.04
Goat, meat | 0.04
Goat, meat byproducts | 0.04
Hog, fat | 0.04
Hog, meat | 0.04
Hog, meat byproducts | 0.04
Horse, fat | 0.04
Horse, meat | 0.04
Horse, meat byproducts | 0.04
Milk | 0.02
Sheep, fat | 0.04
Sheep, meat | 0.04
Sheep, meat byproducts | 0.04

* * * * *

15. Amend § 180.613 by:

a. Revising and republishing the table in paragraph (a)(1);

b. Adding the table heading “Table 2 to Paragraph (a)(2)” to the table in paragraph (a)(2); and

c. Revising the table in paragraph (c).

The revisions and additions read as follows:

§ 180.613 Flonicamid; tolerances for residues.

(a) * * *

(1) * * *

Table 1 to Paragraph (a)(1)
Commodity | Parts per million
Alfalfa, forage | 10
Alfalfa, hay | 7
Alfalfa, seed | 1.5
Almond, hulls | 9
Berry, low-growing, subgroup 13-07G | 2
Brassica, leafy greens, subgroup 4-16B, except radish, tops | 16
Bushberry subgroup 13-07B | 1.5
Caneberry subgroup 13-07A | 3
Celtuce | 4
Cherry subgroup 12-12A | 0.6
Corn, sweet, forage | 9
Corn, sweet, kernel plus cob with husks removed | 0.4
Corn, sweet, stover | 20
Cotton, gin byproducts | 6
Cotton, hulls | 2
Cotton, meal | 1
Cottonseed subgroup 20C | 0.6
Fennel, florence, fresh leaves and stalk | 4
Fruit, citrus, group 10-10 | 1.5
Fruit, pome, group 11-10 | 0.2
Hop, dried cones | 20
Kohlrabi | 1.5
Leaf petiole vegetable subgroup 22B | 4
Leafy greens subgroup 4-16A, except spinach | 8
Nut, tree, group 14-12 except pistachio | 0.15
Peach subgroup 12-12B | 1.5
Pepper/Eggplant subgroup 8-10B | 3
Peppermint, fresh leaves | 7
Pistachio | 0.6
Plum subgroup 12-12C | 0.6
Pomegranate | 0.5
Potato, granules/flakes | 0.4
Prickly pear, fruit | 2
Prickly pear, pads | 3
Radish, tops | 20
Rapeseed subgroup 20A | 1.5
Small fruit vine climbing (except fuzzy kiwifruit), subgroup 13-07F | 3
Spearmint, fresh leaves | 7
Spinach | 9
Sunflower subgroup 20B | 0.7
Tea ¹ | 40
Tomato, paste | 2
Tomato, puree | 0.5
Tomato subgroup 8-10A | 0.4
Vegetable, brassica, head and stem, group 5-16 | 1.5
Vegetable, cucurbit, group 9 | 1.5
Vegetable, legume, bean, edible podded, subgroup 6-22A | 4
Vegetable, legume, bean, succulent shelled, subgroup 6-22C | 7
Vegetable, legume, pea, edible podded, subgroup 6-22B | 4
Vegetable, legume, pea, succulent shelled, subgroup 6-22D | 7
Vegetable, legume, pulse, bean, dried shelled, except soybean, subgroup 6-22E | 3
Vegetable, legume, pulse, pea, dried shelled, subgroup6-22F | 3
Vegetable, root, except sugar beet, subgroup 1B | 0.6
Vegetable, tuberous and corm, subgroup 1C | 0.2
¹ There are no U.S. registrations for tea as of May 11, 2017.

* * * * *

(c) * * *

Table 3 to Paragraph (c)
Commodity | Parts per million
Clover, forage | 0.9
Clover, hay | 5

* * * * *

16. Amend to read as follows:

§ 180.647 d-Phenothrin; tolerances for residues.

(a) General. A tolerance of 0.01 parts per million is established for residues of the insecticide d-phenothrin in or on all food/feed crops following wide-area mosquito adulticide applications. Compliance with the tolerance levels specified is to be determined by measuring only d-phenothrin in or on the commodity.

* * * * *

[FR Doc. 2024-13975 Filed 7-19-24; 8:45 am]

BILLING CODE 6560-50-P